DEPARTMENT OF ENERGY

Federal Energy Regulatory Commission

Combined Notice of Filings #1

Take notice that the Commission received the following electric corporate filings:

Docket Numbers: EC23-57-000.

Applicants: System Energy Resources, Inc.

Description: Application for Authorization Under Section 203 of the Federal Power Act of System Energy Resources, Inc.

Filed Date: 2/21/23.

Accession Number: 20230221-5395.

Comment Date: 5 p.m. ET 3/14/23.

Take notice that the Commission received the following exempt wholesale generator filings:

Docket Numbers: EG23-84-000.

Applicants: McFarland Solar A, LLC.

Description: McFarland Solar A, LLC submits Notice of Self-Certification of Exempt Wholesale Generator Status.

Filed Date: 2/23/23.

Accession Number: 20230223-5030.

Comment Date: 5 p.m. ET 3/16/23.

Take notice that the Commission received the following electric rate filings:

Docket Numbers: ER10-1982-016; ER10-1253-015; ER10-1246-017; ER10-1252-017; ER20-2671-004; ER23-138-001; ER23-139-001.

Applicants: Pleasant Hill Solar, LLC, Watlington Solar, LLC, Water Strider Solar, LLC, Consolidated Edison Solutions, Inc., Consolidated Edison Energy, Inc., Orange and Rockland Utilities, Inc., Consolidated Edison Company of New York, Inc.

Description: Amendment to December 15, 2022, Triennial Market Power Analysis for Northeast Region of Consolidated Edison Company of New York, Inc.

Filed Date: 2/17/23.

Accession Number: 20230217-5239.

Comment Date: 5 p.m. ET 3/10/23.

Docket Numbers: ER10-1776-004; ER16-1250-014; ER22-2173-001; ER10-2824-004; ER10-2825-005; ER22-2174-001; ER21-2272-002; ER10-2957-005; ER10-2995-005; ER10-2996-004; ER10-2999-004; ER10-3000-004; ER10-3029-004; ER21-2748-002; ER21-2847-002; ER19-2360-003; ER10-3009-006; ER10-3013-005.

Applicants: Star Point Wind Project LLC, Pebble Springs Wind LLC, Montague Wind Power Facility, LLC, Montague Solar, LLC, Lund Hill Solar, LLC, Bracewell LLP, Leaning Juniper Wind Power II LLC, Klondike Wind Power III LLC, Klondike Wind Power II LLC, Klondike Wind Power LLC, Klamath Energy LLC, Juniper Canyon Wind Power LLC, Hay Canyon Wind LLC, Golden Hills Wind Farm, LLC, Daybreak Solar, LLC, Big Horn II Wind Project LLC, Big Horn Wind Project LLC, Bakeoven Solar, LLC, Avangrid Renewables, LLC.

Description: Supplement to November 8, 2022, Notice of Change in Status of Leaning Juniper Wind Power II LLC.

Filed Date: 2/21/23.

Accession Number: 20230221-5393.

Comment Date: 5 p.m. ET 3/14/23.

Docket Numbers: ER22-2933-002.

Applicants: Nevada Power Company.

Description: Compliance filing: Compliance Filing Docket ER22-2933 to be effective 12/1/2022.

Filed Date: 2/23/23.

Accession Number: 20230223-5109.

Comment Date: 5 p.m. ET 3/16/23.

Docket Numbers: ER23-1154-000.

Applicants: Arkansas Electric Cooperative Corporation.

Description: Request for One-Time Limited Waiver of Arkansas Electric Cooperative Corporation, et al.

Filed Date: 2/21/23.

Accession Number: 20230221-5378.

Comment Date: 5 p.m. ET 3/3/23.

Docket Numbers: ER23-1164-000.

Applicants: System Energy Resources, Inc.

Description: Compliance filing: SERI UPSA Compliance (EL18-152 and ER23-816) to be effective 1/1/2023.

Filed Date: 2/22/23.

Accession Number: 20230222-5182.

Comment Date: 5 p.m. ET 3/15/23.

Docket Numbers: ER23-1165-000.

Applicants: Database returns error. There is a problem with archive data and system. Contact Administrator.

Description: Baseline eTariff Filing: McFarland Solar A, LLC MBR Tariff to be effective 4/1/2023.

Filed Date: 2/23/23.

Accession Number: 20230223-5001.

Comment Date: 5 p.m. ET 3/16/23.

Docket Numbers: ER23-1166-000.

Applicants: Southwest Power Pool, Inc.

Description: § 205(d) Rate Filing: 3596 Tenaska Clear Creek Wind Facilities Constr. Agr Cancel to be effective 8/13/2021.

Filed Date: 2/23/23.

Accession Number: 20230223-5034.

Comment Date: 5 p.m. ET 3/16/23.

Docket Numbers: ER23-1167-000.

Applicants: PJM Interconnection, L.L.C.

Description: § 205(d) Rate Filing: Original NSA, SA No. 6804; Queue No. AC2-090 to be effective 1/24/2023.

Filed Date: 2/23/23.

Accession Number: 20230223-5061.

Comment Date: 5 p.m. ET 3/16/23.

Docket Numbers: ER23-1168-000.

Applicants: New York Independent System Operator, Inc.

Description: § 205(d) Rate Filing: NYISO 205 Filing: Amended Development Agreement between NYISO, NYTransco SA 2510 to be effective 1/19/2023.

Filed Date: 2/23/23.

Accession Number: 20230223-5064.

Comment Date: 5 p.m. ET 3/16/23.

Docket Numbers: ER23-1169-000.

Applicants: Basin Electric Power Cooperative.

Description: Initial rate filing: Basin Electric, Baseline Submission of Service Agreement No. 118 with NPPD to be effective 7/10/2020.

Filed Date: 2/23/23.

Accession Number: 20230223-5068.

Comment Date: 5 p.m. ET 3/16/23.

Docket Numbers: ER23-1170-000.

Applicants: Basin Electric Power Cooperative.

Description: § 205(d) Rate Filing: Basin Electric, Submission of Amended Service Agreement No. 118 with NPPD to be effective 1/31/2023.

Filed Date: 2/23/23.

Accession Number: 20230223-5077.

Comment Date: 5 p.m. ET 3/16/23.

Docket Numbers: ER23-1171-000.

Applicants: MD Solar 2, LLC.

Description: Baseline eTariff Filing: Reactive Power Compensation Filing to be effective 3/1/2023.

Filed Date: 2/23/23.

Accession Number: 20230223-5082.

Comment Date: 5 p.m. ET 3/16/23

Docket Numbers: ER23-1172-000.

Applicants: Mid-Atlantic Interstate Transmission, LLC, PJM Interconnection, L.L.C.

Description: § 205(d) Rate Filing: Mid-Atlantic Interstate Transmission, LLC submits tariff filing per 35.13(a)(2)(iii) MAIT submits Revised Interconnection Agreement, SA No. 4577 with MetEd to be effective 4/25/2023.

Filed Date: 2/23/23.

Accession Number: 20230223-5091.

Comment Date: 5 p.m. ET 3/16/23.

Docket Numbers: RT04-2-000; ER09-1532-000; ER20-2054-000.

Applicants: ISO New England Participating Transmission Owners and Protest.

Description: Formal Challenge of RENEW Northeast, Inc. to July 29, 2022 Annual Informational Filing by ISO New England Participating Transmission Owners and Protest.

Filed Date: 1/31/23.

Accession Number: 20230131-5481.

Comment Date: 5 p.m. ET 3/16/23

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: February 23, 2023.
Debbie-Anne A. Reese,
Deputy Secretary.

[FR Doc. 2023-04196 Filed 2-28-23; 8:45 am]

BILLING CODE 6717-01-P